DEPARTMENT OF COMMERCE

International Trade Administration

(C-580-851)

Dynamic Random Access Memory Semiconductors from the Republic of Korea: Extension of Time Limit for Preliminary Results of Countervailing Duty Administrative Review

AGENCY: Import Administration, International Trade Administration, Department of Commerce.

EFFECTIVE DATE: April 14, 2009.

FOR FURTHER INFORMATION CONTACT: Shane Subler at (202) 482-0189 or David Neubacher at (202) 482-5823; AD/CVD Operations, Office 1, Import Administration, International Trade Administration, U.S. Department of Commerce, 14th Street and Constitution Avenue, NW, Washington, DC 20230.

SUPPLEMENTARY INFORMATION:

Background

On September 30, 2008, the Department of Commerce (“the Department”) published a notice of initiation of administrative review of the countervailing duty order on dynamic random access memory semiconductors from the Republic of Korea, covering the period January 1, 2007 through December 31, 2007. See Initiation of Antidumping and Countervailing Duty Administrative Reviews and Requests for Revocation in Part, 73 FR 56795 (September 30, 2008). On February 17, 2009, the petitioner, Micron Technology, Inc., alleged that the respondent, Hynix Semiconductor, Inc., received new subsidies.

Statutory Time Limits

Section 751(a)(3)(A) of the Tariff Act of 1930, as amended (“the Act”), requires the Department to issue the preliminary results of an administrative review within 245 days after the last day of the anniversary month of an order for which a review is requested and the final results of review within 120 days after the date on which the preliminary results are published. If it is not practicable to complete the review within this time period, section 751(a)(3)(A) of the Act allows the Department to extend these deadlines to a maximum of 365 days and 180 days, respectively.

Extension of Time Limit for Preliminary Results

This administrative review is extraordinarily complicated due to the complexity of the countervailable subsidy practices found in the investigation and the new subsidy allegations. Because the Department requires additional time to review, analyze, and possibly verify the information, and to issue additional supplemental questionnaires, if necessary, it is not practicable to complete this review within the original time limit (i.e., by May 3, 2009). Therefore, the Department is extending the time limit for completion of the preliminary results by 90 days to not later than August 1, 2009, in accordance with section 751(a)(3)(A) of the Act. August 1, 2009, however, falls on a Saturday. The Department's long-standing practice is to issue a determination on the next business day when the statutory deadline falls on a weekend, federal holiday, or any other day when the Department is closed. See Notice of Clarification: Application of “Next Business Day” Rule for Administrative Determination Deadlines Pursuant to the Tariff Act of 1930, As Amended, 70 FR 24533 (May 10, 2005). Accordingly, the deadline for completion of the preliminary results is now no later than Monday, August 3, 2009.

We are issuing and publishing this notice in accordance with section 751(a)(1) of the Act.

Dated: April 8, 2009.
John M. Andersen,
Acting Deputy Assistant Secretary for Antidumping and Countervailing Duty Operations.

[FR Doc. E9-8499 Filed 4-13-09; 8:45 am]

BILLING CODE 3510-DS-S